DEPARTMENT OF ENERGY

Federal Energy Regulatory Commission

[Project No. 13590-001]

Lockhart Power Company, Inc.; Notice of Availability of Final Environmental Assessment

In accordance with the National Environmental Policy Act of 1969 (NEPA) and the Federal Energy Regulatory Commission's (Commission or FERC) regulations, 18 CFR pt. 380, the Office of Energy Projects has reviewed Lockhart Power Company, Inc.'s application for license for the Riverdale Hydroelectric Project (FERC Project No. 13590-001), located on the Enoree River, near the town of Enoree, in Spartanburg and Laurens Counties, South Carolina. The project does not occupy federal lands.

Staff prepared a final environmental assessment (FEA), which analyzes the potential environmental effects of licensing the project, and concludes that licensing the project, with appropriate environmental protective measures, would not constitute a major federal action that would significantly affect the quality of the human environment.

A copy of the FEA is available for review at the Commission in the Public Reference Room or may be viewed on the Commission's Web site at http://www.ferc.gov using the “eLibrary” link. Enter the docket number excluding the last three digits in the docket number field to access the document. For assistance, contact FERC Online Support at FERCOnlineSupport@ferc.gov, at (866) 208-3676 (toll free), or, 202-502-8659 (TTY).

You may also register online at http://www.ferc.gov/docs-filing/esubscription.asp to be notified via email of new filings and issuances related to this or other pending projects. For assistance, contact FERC Online Support.

FOR FURTHER INFORMATION CONTACT: Sarah Salazar by phone at 202-502-6863, or by email at sarah.salazar@ferc.gov.

Dated: August 15, 2014.
Kimberly D. Bose,
Secretary.

[FR Doc. 2014-19865 Filed 8-20-14; 8:45 am]

BILLING CODE 6717-01-P